DEPARTMENT OF EDUCATION

[CFDA No.: 84.362A]

Native Hawaiian Education Program; Notice Inviting Applications for New Awards for Fiscal Year (FY) 2002

Purpose of the Program: The purpose of the Native Hawaiian Education program is to support innovative projects that provide supplemental services that address the educational needs of Native Hawaiian children and adults. The reauthorized program consolidates, under a single authority, the previously authorized Native Hawaiian programs and supports an expanded range of program activities.

Eligible Applicants: Native Hawaiian educational organizations; Native Hawaiian community-based organizations; public and private nonprofit organizations, agencies, and institutions with experience in developing or operating Native Hawaiian programs or programs of instructions in the Native Hawaiian language; and consortia thereof.

Applications Available: June 6, 2002.

Deadline for Transmittal of Applications: July 8, 2002.

Deadline for Intergovernmental Review: September 4, 2002.

Estimated Available Funds: $10.1 million. Of this amount, we will award approximately $5.6 million under absolute priority 1 (family-based education centers); approximately $2.7 million under absolute priority 2 (curriculum development); approximately $1 million under absolute priority 3 (college preparation and scholarship support); approximately $650,000 under absolute priority 4 (gifted and talented); and approximately $200,000 under absolute priority 5 (community-based learning centers).

Estimated Number of Awards: 7 under absolute priority 1; 5 under absolute priority 2; 3 under absolute priority 3; 1 under absolute priority 4; and 1 under absolute priority 5.

Estimated Average Size of Awards: $200,000-$1,000,000.

Note: These estimates are projections for the guidance of potential applicants. The Department is not bound by any estimates in this notice.

Project Period: Up to 36 months.

Applicable Regulations: The Education Department General Administrative Regulations (EDGAR) in 34 CFR parts 74, 75, 77, 79, 80, 81, 82, 86, 97, 98, and 99.

Absolute Priorities: In the conference report accompanying the FY 2002 appropriations legislation, Congress urged the Department to support Native Hawaiian education activities in certain specifically identified areas. In response to this request, the Secretary establishes the following separate absolute priorities under 34 CFR 75.105(c)(3) and will fund under this competition only applicants that meet one of these priorities:

Absolute Priority 1—Family-Based Education Centers—The applicant will use the funds received under this competition to support the operation of a family-based education center that provides such services as—

(a) Programs for Native Hawaiian parents and their infants from the prenatal period of the infants through age three;

(b) Preschool programs for Native Hawaiians; and

(c) Research on, and development and assessment of, family-based, early childhood, and preschool programs for Native Hawaiians.

Absolute Priority 2—Curriculum Development—The applicant will use the funds received under this competition to develop academic and vocational curricula to address the needs of Native Hawaiian children and adults, including curriculum materials in the Hawaiian language and mathematics and science curricula that incorporate Native Hawaiian tradition and culture.

Absolute Priority 3—College Preparation and Scholarship Support—The applicant will use funds received under this competition to support activities, including co-location, that enable Native Hawaiians to enter and complete programs of postsecondary education, such as—

(a) Provision of full or partial scholarships for undergraduate or graduate study that are awarded to students based on their academic promise and financial need, with a priority, at the graduate level, given to students entering professions in which Native Hawaiians are underrepresented;

(b) Family literacy services;

(c) Counseling and support services for students receiving scholarship assistance;

(d) Counseling and guidance for Native Hawaiian secondary students who have the potential to receive scholarships;

(e) Faculty development activities designed to promote the matriculation of Native Hawaiian students; and

(f) Co-location projects that provide Native Hawaiian secondary students and adults a one-stop delivery system under which they can access in a single location a comprehensive range of services that will assist them in entering and completing programs of postsecondary education.

Absolute Priority 4—Gifted and Talented—The applicant will use the funds received under this competition to support activities that address the special needs of Native Hawaiian students who are gifted and talented, such as—

(a) Educational, psychological, and developmental activities designed to assist in the educational progress of those students; and

(b) Activities that involve the parents of those students in a manner designed to assist in the students' educational progress.

Absolute Priority 5—Community-Based Learning Centers—The applicant will use the funds received under this competition to support the operation of one or more community-based learning centers that address the needs of Native Hawaiian families and communities through the coordination of public and private programs and services, including—

(a) Preschool programs;

(b) After-school programs;

(c) Vocational and adult education programs; and

(d) Programs that recognize and support the unique cultural and educational needs of Native Hawaiian children and incorporate appropriately qualified Native Hawaiian elders and seniors.

Competitive Preference: The legislation at 20 U.S.C. 7515(a)(2) establishes specific statutory priorities. In implementing these statutory priorities, the Secretary establishes a competitive preference under 34 CFR 75.105(c)(2) for this competition and will award an applicant, in addition to any points that an applicant earns under the selection criteria, five points if it proposes a project that is designed to address one or more of the following:

(a) Beginning reading and literacy among students in kindergarten through third grade;

(b) The needs of at-risk children and youth;

(c) Needs in fields or disciplines in which Native Hawaiians are underemployed; and

(d) The use of the Hawaiian language in instruction.

An applicant that addresses one or more of these competitive priorities will receive a total of five additional points in the competition. If an applicant addresses more than one competitive priority, it will only receive a total of five additional competitive preference points, rather than five competitive preference points for each of the priorities addressed.

For Applications and Information Contact: Mrs. Lynn Thomas, (202) 260-1541, U.S. Department of Education, 400 Maryland Avenue, SW., FOB6, Room 3C124, Mail Stop 6140, Washington, DC 20202. The e-mail address for Mrs. Thomas is: lynn.thomas@ed.gov.

Individuals who use a telecommunications device for the deaf (TDD) may call the Federal Information Relay Service (FIRS) at 1-800-877-8339.

Individuals with disabilities may obtain this document in an alternative format (e.g., Braille, large print, audiotape, or computer diskette) on request to the contact person listed.

Individuals with disabilities may obtain a copy of the application package in an alternative format, also, by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF, you must have Adobe Acrobat Reader, which is available free at this site. If you have any questions about using PDF, call the U.S. Government Printing Office (GPO) at (202) 512-1530 or, toll free, at 1-888-293-6498.

Note: The official version of this document is the document published in the Federal Register. Free Internet access to the official edition of the Federal Register and the Code of Federal Regulations is available on GPO Access at: http://www.access.gpo.gov/nara/index.html.

Program Authority: 20 U.S.C. 7515-7517.

Dated: May 31, 2002.
Susan B. Neuman,
Assistant Secretary for Elementary and Secondary Education.

[FR Doc. 02-14125 Filed 6-5-02; 8:45 am]

BILLING CODE 4000-01-P